DEPARTMENT OF COMMERCE

United States Patent and Trademark Office

37 CFR Chapter I

[Docket No. PTO-C-2011-0026]

Preliminary Plan for Retrospective Analysis of Existing Rules

AGENCY: United States Patent and Trademark Office, Commerce.

ACTION: Request for comments.

SUMMARY: The United States Patent and Trademark Office (“USPTO” or “Office”) has prepared a preliminary plan to review its existing significant regulations in response to the President's Executive Order 13563 on Improving Regulation and Regulatory Review. The Office's plan is part of the Department of Commerce's (“DOC”) “Preliminary Plan for Retrospective Analysis of Existing Rules,” which recently has been made public. The Office is implementing the parts of DOC's plan that relate to review of the Office's existing significant regulations. Those parts of the plan set forth a process for reviewing the Office's regulations and determining whether any of these regulations should be modified, streamlined, expanded, or repealed in order to make the Office's regulatory program more effective and less burdensome. Now that the preliminary plan has been completed and published, the Office is asking the public to provide comments on the plan prior to it being finalized.

DATES: You must submit any comments on or before September 6, 2011.

ADDRESSES: Submit comments electronically by e-mailing them directly to the Office at regulatory_review_comments@uspto.gov. Comments may also be submitted by mail addressed to: Office of the General Counsel, United States Patent and Trademark Office, P.O. Box 1450, Alexandria, VA 22313-1450, marked to the attention of Nicolas Oettinger. Although comments may be submitted by mail, the Office prefers to receive comments via the Internet. Comments may also be submitted through the Federal eRulemaking Portal Web site at http://www.regulations.gov. Additional instructions on providing comments through the Federal eRulemaking Portal are available at http://www.regulations.gov. All comments submitted directly to the Office or provided on the Federal eRulemaking Portal should include the docket number (PTO-C-2011-0026).

All comments will be available for public inspection upon request at the Office of the Commissioner for Patents, located in Madison East, Tenth Floor, 600 Dulany Street, Alexandria, Virginia, and will be available on the USPTO Web site at http://www.uspto.gov. All comments submitted through the Federal eRulemaking Portal will be made available publicly on that Web site. Because comments will be made available for public inspection, information that the submitter does not desire to make public, such as an address or phone number, should not be included in the comments.

FOR FURTHER INFORMATION CONTACT: Nicolas Oettinger, Office of the General Counsel, by telephone at 571-272-7832, by e-mail at nicolas.oettinger@uspto.gov, or by mail addressed to Mail Stop Comments—Patents, Commissioner for Patents, P.O. Box 1450, Alexandria, VA 22313-1450, marked to the attention of Nicolas Oettinger.

SUPPLEMENTARY INFORMATION: On January 18, 2011, President Obama issued Executive Order 13563, Improving Regulation and Regulatory Review. E.O. 13563, 76 FR 3281. The Executive Order directed agencies to develop and submit, within 120 days, preliminary plans for reviewing their existing “significant regulations” (as that term is defined in Executive Order 12866) and determining whether and how such regulations could be made more effective and less burdensome. Additional information about Executive Order 13563, and the work that agencies have done to comply with the Order, can be found at http://www.whitehouse.gov/21stcenturygov/actions/21st-century-regulatory-system.

The Office, in its capacity as an agency within DOC, has developed a preliminary plan for the review of its existing significant regulations, which is part of DOC's more general preliminary plan that was prepared in accordance with Executive Order 13563. DOC's preliminary plan, which includes the process by which the Office will engage in a retrospective analysis of its existing significant regulations and a list of candidate regulations for review over the next two years, was submitted to the Office of Management and Budget (OMB) on May 18, 2011 in accordance with Executive Order 13563. The plan has been made available to the public on DOC's Web site at http://www.commerce.gov and on the White House Web site at http://www.whitehouse.gov/21stcenturygov/actions/21st-century-regulatory-system.

The Office is now working on finalizing the portions of this preliminary plan that relate to the Office. When the Office was preparing its preliminary plan, it solicited public comments with its March 22, 2011 Federal Register notice, and those comments were valuable in developing the plan. Now that the Office is working on finalizing the plan, the Office seeks further comment from the public on the portions of DOC's preliminary plan that relate to the Office.

The Office welcomes any comments the public believes might be helpful as it works on finalizing the plan. In particular, comments on ways in which the plan can be improved or best implemented are encouraged, as are comments on the list of candidate regulations for review that is set forth in the plan and any suggestions for additional regulations that should be considered for review.

In order to comply with OMB guidance that directs plans to be finalized within 80 days of their publication, the Office asks that comments on the plan be submitted by September 6, 2011. The Office will continue to receive and consider comments submitted after that date. The Office plans to continue receiving comments on the plan, and considering such comments as it implements and refines the plan, on a going-forward basis. The Office will maintain a Web page (located at http://www.uspto.gov/ip/rules/lookback.jsp) that will provide information about the plan, the Office's progress in implementing the plan and reviewing regulations, and the comments the Office has received on the plan. Comments can be submitted to the Office at any time through that web page, even after the expiration of the comment period set forth in this notice.

While the Office welcomes and values all comments from the public in response to this request, these comments do not bind the Office to any further actions related to the comments, and the Office may not respond to every comment that is submitted.

Dated: June 29, 2011.
David J. Kappos,
Under Secretary of Commerce for Intellectual Property and Director of the United States Patent and Trademark Office.

[FR Doc. 2011-16965 Filed 7-6-11; 8:45 am]

BILLING CODE 3510-16-P